Title 3—

The President

Proclamation 7530 of March 6, 2002

Women's History Month, 2002

By the President of the United States of America

A Proclamation

Women's History Month provides our country the privilege of honoring the countless contributions that American women have made throughout our history. These contributions have enriched our culture, strengthened our Nation, and furthered the Founders' vision for a free and just Republic that provides opportunity and safety at home and is an influence for peace around the world.

Since its beginnings, our land has been blessed by noteworthy women who played defining roles in shaping our Nation. Sakajawea was a Native American woman who befriended the explorers, Meriwether Lewis and William Clark, 150 years ago as they crossed the great Northwest. She helped Lewis and Clark's expedition complete the first successful overland transcontinental journey. Lucretia Mott courageously wrote and spoke against slavery and the lack of equal rights for women, helping America recognize the inherent wrong in the institutional subjugation of others and the need to strive for equality, freedom, and justice for all. Elizabeth Blackwell was the first woman in America awarded a medical degree, and she dedicated her pioneering efforts as a physician to helping others.

Helen Keller overcame debilitating physical disabilities, showing us the power of a determined human spirit. And Clara Barton developed a vision for helping others through her service to the wounded during the Civil War; and she realized that vision by founding the American Red Cross after the war, an organization that has since become renowned for its effectiveness in helping those who suffer or are in need. Recently, the Red Cross reached out to aid Afghan women traumatized by the repressive rule of the intolerant Taliban regime, which for years had mercilessly oppressed Afghanistan and Afghan women in particular. Today, thousands of American women are furthering the cause of freedom through service in government, the military, and other organizations, as we seek to defeat terrorism and bring justice to those responsible for the September 11 attacks.

The history of American women is an expansive story of outstanding individuals who sacrificed much and worked hard in pursuit of a better world, where peace, dignity, and opportunity can reign. The spirit of loving determination that shaped these pursuits continues to serve as an example to those who seek to better our Nation. American women of strength, vision, and character have long influenced our country by contributing their time, efforts, and wisdom in vastly diverse ways to improve and enhance our government and communities, our schools and religious institutions, our businesses and the military, and the arts and sciences. Women also have fundamentally shaped our civilization in the care and nurturing of families. Today, women in contemporary America are furthering the Founders' vision by working to advance freedom, increase equality, and administer justice in every corner of our land, through their everyday work in schoolrooms, boardrooms, courtrooms, homes, and communities.

As President, I am proud to recognize the many contributions American women have made to help make our Nation free, strong, and a force for peace and justice around the world. On this observance of Women's History Month, I encourage every American to learn more about these important contributions, and to celebrate their noble legacies as we work to build a brighter future for our Nation and for all of the world's people.

NOW, THEREFORE, I, GEORGE W. BUSH, President of the United States of America, by virtue of the authority vested in me by the Constitution and laws of the United States, do hereby proclaim March 2002 as Women's History Month. I call upon all the people of the United States to observe this month with appropriate programs, ceremonies, and activities.

IN WITNESS WHEREOF, I have hereunto set my hand this sixth day of March, in the year of our Lord two thousand two, and of the Independence of the United States of America the two hundred and twenty-sixth.

B

[FR Doc. 02-5830

Filed 3-7-02; 8:45 am]

Billing code 3195-01-P